DEPARTMENT OF TRANSPORTATION

Federal Aviation Administration

14 CFR Part 39

[Docket No. 2002-NE-37-AD; Amendment 39-13962; AD 2005-03-06]

RIN 2120-AA64

Airworthiness Directives; Rolls-Royce Deutschland Ltd. & Co KG (formerly Rolls-Royce plc), Model Tay 611-8, 620-15, 650-15, and 651-54 Turbofan Engines

AGENCY: Federal Aviation Administration (FAA), DOT.

ACTION: Final rule.

SUMMARY: The FAA is superseding an existing airworthiness directive (AD) for Rolls-Royce Deutschland Ltd. & Co KG (RRD) (formerly Rolls-Royce plc) Model Tay 611-8, 620-15, 650-15, and 651-54 turbofan engines, with low pressure (LP) fuel tube, part number (P/N) JR33021A, installed. That AD currently requires initial and repetitive inspections of the LP fuel tubes. This AD requires the same inspections and adds a requirement to replace the fuel tube with a new design tube, as mandatory terminating action to the repetitive inspections. This AD results from the manufacturer introducing a new design fuel tube, which eliminates the unsafe condition. We are issuing this AD to prevent a dual-engine flameout due to fuel exhaustion, which could lead to forced landing and possible damage to the airplane.

DATES: This AD becomes effective March 17, 2005. The Director of the Federal Register approved the incorporation by reference of certain publications listed in the regulations as of March 17, 2005.

ADDRESSES: You can get the service bulletins identified in this AD from Rolls-Royce Deutschland Ltd. & Co KG, Eschenweg 11, D-15827 DAHLEWITZ, Germany; telephone 49 (0) 33-7086-1768; fax 49 (0) 33-7086-3356.

You may examine the AD docket at the FAA, New England Region, Office of the Regional Counsel, 12 New England Executive Park, Burlington, MA. You may examine the service bulletins, at the FAA, New England Region, Office of the Regional Counsel, 12 New England Executive Park, Burlington, MA; or at the National Archives and Records Administration (NARA). For information on the availability of this material at NARA, call (202) 741-6030, or go to: http://www.archives.gov/federal_register/code_of_federal_regulations/ibr_locations.html.

FOR FURTHER INFORMATION CONTACT: Jason Yang, Aerospace Engineer, Engine Certification Office, FAA, Engine and Propeller Directorate, 12 New England Executive Park, Burlington, MA 01803-5299; telephone (781) 238-7747; fax (781) 238-7199.

SUPPLEMENTARY INFORMATION: The FAA proposed to amend 14 CFR part 39 with a proposed airworthiness directive (AD). The proposed AD applies to RRD Model Tay 611-8, 620-15, 650-15, and 651-54 turbofan engines, with LP fuel tube, P/N JR33021A, installed. We published the proposed AD in the Federal Register on June 9, 2004 (69 FR 32285). That action proposed to require initial and repetitive inspections of LP fuel tubes, and replacement of the fuel tube with a new design tube as mandatory terminating action to the repetitive inspections. That proposed action results from the manufacturer introducing a new design fuel tube, which eliminates the unsafe condition.

Special Flight Permits Paragraph Removed

Paragraph (g) of the current AD, AD 2003-05-04, contains a paragraph pertaining to special flight permits. Even though this final rule does not contain a similar paragraph, we have made no changes with regard to the use of special flight permits to operate the airplane to a repair facility to do the work required by this AD. In July 2002, we published a new part 39 that contains a general authority regarding special flight permits and airworthiness directives; see Docket No. FAA-2004-8460, Amendment 39-9474 (69 FR 47998, July 22, 2002). Thus, when we now supersede ADs we will not include a specific paragraph on special flight permits unless we want to limit the use of that general authority granted in section 39.23.

Examining the AD Docket

You may examine the AD Docket (including any comments and service information), by appointment, between 8 a.m. and 4:30 p.m., Monday through Friday, except Federal holidays. See ADDRESSES for the location.

Comments

We provided the public the opportunity to participate in the development of this AD. We received no comments on the proposal or on the determination of the cost to the public.

Conclusion

We have carefully reviewed the available data and determined that air safety and the public interest require adopting the AD as proposed.

Costs of Compliance

There are about 1,300 RRD Model Tay 611-8, 620-15, 650-15, and 651-54 turbofan engines of the affected design in the worldwide fleet. We estimate that 1,206 engines installed on airplanes of U.S. registry would be affected by this AD. We also estimate that it will take about two work hours per engine to perform the tube inspection, and two work hours per engine to perform the tube replacement. The average labor rate is $65 per work hour. Required parts will cost about $1,300 per engine. Based on these figures, we estimate the total cost of the AD to U.S. operators to be $1,720,000.

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this AD will not have federalism implications under Executive Order 13132. This AD will not have a substantial direct effect on the States, on the relationship between the national government and the States, or on the distribution of power and responsibilities among the various levels of government.

For the reasons discussed above, I certify that this AD:

(1) Is not a “significant regulatory action” under Executive Order 12866;

(2) Is not a “significant rule” under DOT Regulatory Policies and Procedures (44 FR 11034, February 26, 1979); and

(3) Will not have a significant economic impact, positive or negative, on a substantial number of small entities under the criteria of the Regulatory Flexibility Act.

We prepared a summary of the costs to comply with this AD and placed it in the AD Docket. You may get a copy of this summary by sending a request to us at the address listed under ADDRESSES. Include “AD Docket No. 2002-NE-37-AD” in your request.

List of Subjects in 14 CFR Part 39

Air transportation, Aircraft, Aviation safety, Incorporation by reference, Safety.

Adoption of the Amendment

Accordingly, under the authority delegated to me by the Administrator, the Federal Aviation Administration amends 14 CFR part 39 as follows:

PART 39—AIRWORTHINESS DIRECTIVES

1. The authority citation for part 39 continues to read as follows:

Authority: 49 U.S.C. 106(g), 40113, 44701.

§ 39.13 [Amended]

2. The FAA amends § 39.13 by removing Amendment 39-13080 (69 FR 11467, March 11, 2003) and by adding a new airworthiness directive, Amendment 39-13962, to read as follows:

2005-03-06 Rolls-Royce Deutschland Ltd. & Co KG (formerly Rolls-Royce plc): Amendment 39-13962. Docket No. 2002-NE-37-AD.

Effective Date

(a) This AD becomes effective March 17, 2005.

Affected ADs

(b) This AD supersedes AD 2003-05-04.

Applicability

(c) This AD applies to Rolls-Royce Deutschland Ltd. & Co KG (RRD) (formerly Rolls-Royce plc) Model Tay 611-8, 620-15, 650-15, and 651-54 turbofan engines, with low pressure (LP) fuel tube, part number (P/N) JR33021A, installed. These engines are installed on, but not limited to, Fokker F.28 Mark 0100 airplanes, Supplemental Type Certificate No. SA842SW, Boeing 727 airplanes, and Gulfstream G-IV airplanes.

Unsafe Condition

(d) This AD results from the manufacturer introducing a new design LP fuel tube which eliminates the unsafe condition. The actions specified in this AD are intended to prevent a dual-engine flameout due to fuel exhaustion which could lead to forced landing and possible damage to the airplane.

Compliance

(e) You are responsible for having the actions required by this AD performed within the compliance times specified unless the actions have already been done.

Initial Inspection

(f) Before further flight, for Tay 611-8 and 651-54 turbofan engines with part 4 of RRD service bulletin (SB) TAY-73-1194 incorporated, inspect the LP fuel tube for fretting, and replace as necessary. Use 3.C.1. through 3.C.13. of the Accomplishment Instructions of RRD Service Bulletin (SB) No. TAY-73-1553, Revision 2, dated April 23, 2003.

(g) Before further flight, for Tay 620-15 and 650-15 turbofan engines, inspect the LP fuel tube for fretting, and replace as necessary. Use 3.C.1. through 3.C.13. of the Accomplishment Instructions of RRD SB No. TAY-73-1593, dated April 23, 2003.

Repetitive Inspections

(h) Thereafter, inspect the LP fuel tube for fretting, at intervals not to exceed 2,000 hours time-in-service (TIS) since the last inspection, and replace as necessary. Use 3.C.1. through 3.C.13. of the Accomplishment Instructions of RRD SBs referenced in paragraphs (f) and (g) of this AD.

Mandatory Terminating Action

(i) As mandatory terminating action to the repetitive inspections required by this AD, replace fuel tube, P/N JR33021, with a fuel tube P/N that is not listed in this AD. Information on fuel tube replacement can be found in RRD SB No. TAY-73-1592, dated April 30, 2003. Use the following compliance times:

(1) For fuel tubes with fewer than 4,000 hours TIS on the effective date of this AD, replace fuel tube within 10 additional cycles-in-service or before reaching 4,000 hours TIS, whichever occurs later.

(2) For fuel tubes with 4,000 or more hours TIS on the effective date of this AD, replace fuel tube before June 30, 2005.

Alternative Methods of Compliance

(j) The Manager, Engine Certification Office, has the authority to approve alternative methods of compliance for this AD, if requested using the procedures found in 14 CFR 39.19.

Material Incorporated by Reference

(k) You must use the Rolls-Royce service bulletins listed in Table 1 of this AD to perform the inspections required by this AD. The Director of the Federal Register approved the incorporation by reference of the documents listed in Table 1 of this AD in accordance with 5 U.S.C. 552(a) and 1 CFR part 51. You can get a copy from Rolls-Royce Deutschland Ltd. & Co KG, Eschenweg 11, D-15827 DAHLEWITZ, Germany; telephone 49 (0) 33-7086-1768; fax 49 (0) 33-7086-3356. You can review copies at the FAA, New England Region, Office of the Regional Counsel, 12 New England Executive Park, Burlington, MA; or at the National Archives and Records Administration (NARA). For information on the availability of this material at NARA, call (202) 741-6030, or go to: http://www.archives.gov/federal_register/code_of_federal_regulations/ibr_locations.html. Table 1 follows:

Table 1.—Incorporation by Reference
Service bulletin | Page number(s) shown on the page | Revision level shown on the page | Date shown on the page
TAY-73-1553, Total Pages: 11 | ALL | 2 | April 23, 2003.
TAY-73-1593, Total Pages: 11 | ALL | Original | April 23, 2003.

Related Information

(l) Luftfhart Bundesamt airworthiness directive No. 2002-358/5, dated November 18, 2003, and Rolls-Royce Deutschland Ltd. & Co KG Service Bulletin No. TAY-73-1592, dated April 30, 2003 also address the subject of this AD.

Issued in Burlington, Massachusetts, on February 1, 2005.
Francis A. Favara,
Acting Manager, Engine and Propeller Directorate, Aircraft Certification Service.

[FR Doc. 05-2370 Filed 2-9-05; 8:45 am]

BILLING CODE 4910-13-P